SECURITIES AND EXCHANGE COMMISSION

Proposed Collections; Comment Request

Upon written request, copies available from: Securities and Exchange Commission, Office of Filings and Information Services, Washington, DC 20549.

Extensions:

Form F-9; OMB Control No. 3235-0377; SEC File No. 270-333

Form F-10; OMB Control No. 3235-0380; SEC File No. 270-334

Notice is hereby given that pursuant to the Paperwork Reduction Act of 1995 (44 U.S.C. 3501 et seq.) the Securities and Exchange Commission (“Commission”) is soliciting comments on the collections of information summarized below. The Commission plans to submit these existing collections of information to the Office of Management Budget for extensionand approval.

Form F-9 is a registration statement under the Securities Act of 1933 that is used to register investment grade debt or investment grade preferred securities that are offered for cash or in connection with an exchange offer and are either non-convertible or not convertible for a period of at least one year from the date of issuance and thereafter are only convertible into a security of another class of the issuer. The purpose of the information collection is to permit verification of compliance with securities law requirements and to assure the public availability and dissemination of such information. The principal function of the Commission's forms and rules under the securities laws' disclosure provisions is to make information available to the investors. We estimate that Form F-9 takes approximately 25 hours per response and it is filed by 18 respondents. We further estimate that 25% of the 450 total burden hours (113 burden hours) is prepared by the company.

Form F-10 is a registration statement under the Securities Act of 1933 that is used by certain Canadian “substantial issuers” (those issuers with at least 36 calendar months of reporting history with a securities commission in Canada and a market value of common stock of at least $360 million (Canadian) and an aggregate market value of common stock held by non-affiliates of at least $75 million (Canadian)). The purpose of the information collection is to facilitate cross-border offerings by specified Canadian issuers. We estimate that Form F-10 takes approximately 25 hours per response and is filed by 75 respondents. We further estimate that 25% of the 1,875 total burden hours (469 burden hours) are prepared by the company.

Written comments are invited on: (a) Whether these proposed collections of information are necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to R. Corey Booth, Director/Chief Information Officer, Office of Information Technology, Securities and Exchange Commission, 100 F Street, NE., Washington, DC 20549.

Dated: January 31, 2006.
Nancy M. Morris,
Secretary.

[FR Doc. E6-1618 Filed 2-6-06; 8:45 am]

BILLING CODE 8010-01-P